DEPARTMENT OF COMMERCE

Foreign-Trade Zones Board

[Order No. 2011]

Reorganization of Foreign-Trade Zone 103 Under Alternative Site Framework Grand Forks, North Dakota

Pursuant to its authority under the Foreign-Trade Zones Act of June 18, 1934, as amended (19 U.S.C. 81a-81u), the Foreign-Trade Zones Board (the Board) adopts the following Order:

Whereas, the Board adopted the alternative site framework (ASF) (15 CFR Sec. 400.2(c)) as an option for the establishment or reorganization of zones;

Whereas, the Grand Forks Regional Airport Authority, grantee of Foreign-Trade Zone 103, submitted an application to the Board (FTZ Docket B-27-2016, docketed May 2, 2016) requesting to reorganize under the ASF with a service area of Grand Forks County, North Dakota, in and adjacent to the Grand Forks U.S. Customs and Border Protection port of entry, and to remove existing Sites 1, 2 and 3 from the zone;

Whereas, notice inviting public comment was given in the Federal Register (81 FR 27410-27411, May 6, 2016) and the application has been processed pursuant to the FTZ Act and the Board's regulations; and,

Whereas, the Board adopts the findings and recommendations of the examiner's report, and finds that the requirements of the FTZ Act and the Board's regulations are satisfied;

Now, Therefore, the Board hereby orders:

The application to reorganize FTZ 103 under the ASF is approved, subject to the FTZ Act and the Board's regulations, including Section 400.13, and to the Board's standard 2,000-acre activation limit for the zone.

Signed at Washington, DC, this 29th day of July 2016.
Ronald K. Lorentzen,
Acting Assistant Secretary of Commerce for Enforcement and Compliance, Alternate Chairman, Foreign-Trade Zones Board.

[FR Doc. 2016-18789 Filed 8-8-16; 8:45 am]

BILLING CODE 3510-DS-P